DEPARTMENT OF COMMERCE

National Oceanic and Atmospheric Administration

[I.D. 032201D]

Western Pacific Fishery Management Council; Public Meeting

AGENCY: National Marine Fisheries Service (NMFS), National Oceanic and Atmospheric Administration (NOAA), Commerce.

ACTION: Notice of public meeting

SUMMARY: The Western Pacific Fishery Management Council (Council) will hold a meeting of its Coral Reef Ecosystem Plan Team (CREPT), in Honolulu, HI.

DATES: The meeting of the CREPT will be held on April 11-12, 2001, from 8:30 a.m. to 5 p.m. each day.

ADDRESSES: The meeting will be held at the Council Office Conference Room, Western Pacific Fishery Management Council, 1164 Bishop St., Suite 1400, Honolulu, HI 96813; telephone: 808-522-8220.

FOR FURTHER INFORMATION CONTACT: Kitty M. Simonds, Executive Director; telephone: 808-522-8220.

SUPPLEMENTARY INFORMATION: On April 11-12, 2001, the CREPT will continue its discussion of comments received during the public comment period on the draft Coral Reef Ecosytem Fishery Management Plan (CREFMP) and Draft Environmental Impact Statement (DEIS) and make recommendations to the Council. Copies of the draft CREFMP/DEIS are available from the Western Pacific Fishery Management Council office.

The agenda for the CREPT meeting will include the items listed below (the order in which items are addressed may change):

Wednesday, April 11, 2001

1. Introduction

2. Discussion of public comments on draft CREFMP/DEIS

A. Marine Protected Areas

(1) Northwestern Hawaiian Islands (NWHI)

(2) Main Hawaiian Islands (MHI)

(3) Pacific Remote Island Areas (PRIA)

(4) Guam

(5) Commonwealth of the Mariana Islands (CNMI)

(6) American Samoa

B. Permits and Reporting

(1) General permit

(2) Special permit

(3) Prohibited Management Unit Species (MUS) (exemptions)

(4) Reporting

C. Fishing Gear and Methods

(1) Allowable gear list

(2) Prohibited methods (e.g, scuba-spearfishing)

D. Framework Actions

E. Non-regulatory Actions

F. Research, Monitoring and Assessment

G. Enforcement

H. Overfishing/Maximum Sustainable Yield (MSY)

I. Essential Fish Habitat/Habitat Areas of Particular Concern (EFH/HAPC)(designation, identifying adverse effects, minimizing adverse fishing effects)

J. Other

Thursday, April 12, 2001

1. Discussion and Recommendations (on above comments)

2. Other business

Although non-emergency issues not contained in this agenda may come before the Plan Team for discussion, those issues may not be the subject of formal Plan Team action during this meeting. Plan Team action will be restricted to those issues specifically listed in this document and any issue arising after publication of this document that requires emergency action under section 305(c) of the Magnuson-Stevens Fishery Conservation and Management Act, provided the public has been notified of the Council’s intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: March 23, 2001.
Richard W. Surdi,
Acting Director, Office of Sustainable Fisheries, National Marine Fisheries Service.

[FR Doc. 01-7683 Filed 3-28-01; 8:45 am]

BILLING CODE 3510-22-S